NATIONAL AERONAUTICS AND SPACE ADMINISTRATION

[Notice: (21-060)]

National Space Council Users' Advisory Group (UAG); Public Nominations

AGENCY: National Aeronautics and Space Administration (NASA).

ACTION: Extension to the invitation for public nominations for potential service on the National Space Council Users' Advisory Group.

SUMMARY: NASA announces an extension to the invitation for public nominations for potential members of the National Space Council Users' Advisory Group (UAG). The UAG is a Federal advisory committee under the Federal Advisory Committee Act (FACA) pursuant to the NASA Authorization Act, Fiscal Year 1991. The purpose of the UAG is to ensure that the interests of industry and other non-Federal entities are adequately represented in the deliberations of the National Space Council.

FOR FURTHER INFORMATION CONTACT: For any questions, please contact the UAG Designated Federal Officer/Executive Secretary, James Joseph Miller, NASA Headquarters, Washington, DC 20546, email: jj.miller@nasa.gov; phone: 202-262-0929.

SUPPLEMENTARY INFORMATION: NASA is sponsoring the UAG on behalf of the National Space Council, an Executive Branch interagency coordinating committee chaired by the Vice President, which is tasked with advising and assisting the President on national space policy and strategy. Members of the UAG will serve either as “Representatives” (i.e., representing industry, other non-Federal entities, and other recognizable groups of persons involved in aeronautical and space activities), or as “Special Government Employees” (SGEs, i.e., individual subject matter experts or consultants). Membership will be a mix of Representatives and SGEs, and be balanced to ensure diversity and sector expertise as reflected by the National Space Council. Nominees will be evaluated on merit, subject matter expertise, and track record of contributions and accomplishments aligned with National Space Council goals.

Deadline: The deadline for NASA to receive all public nominations has been extended to October 29, 2021.

Instructions for Public Nominations: Persons or organizations may nominate individuals for consideration as potential members of the UAG. Interested candidates may also self-nominate. The candidate may not be a regular Federal Government employee, and must not be registered by the Department of Justice under the Foreign Agents Registration Act (FARA), 22 U.S.C. 611 et seq. Additionally, a candidate for a SGE appointment must not be Federally registered as a lobbyist under the Lobbying Disclosure Act of 1995, 2 U.S.C. 1602, as amended. Nominations must be contained in an email to NASA attaching the required documents. All nominations should include a cover letter, a resume (including contact information for the individual) and/or a professional biography demonstrating professional stature, knowledge and experience commensurate with achieving the UAG's purpose as set forth in Public Law 101-611, Section 121. Each document must not exceed one page. The cover letter must be a signed letter saved as a PDF file, indicate the category of membership for which the individual is being nominated (“Representative” or “SGE”), and contain an affirmative statement that the individual meets all aforesaid requirements. Cover letters for Representative nominations must also indicate why the individual should be considered for membership, and be on the supporting organization's letterhead. Nominations must be submitted in a single email attaching the cover letter, resume, and/or professional biography to nominations@spacecounciluag.org. For more information about the National Space Council UAG to further support the nomination submission, please see: https://www.nasa.gov/content/national-space-council-users-advisory-group. Hard copies such as paper documents sent through postal mail will not be accepted.

Privacy Act Notification: The information provided in response to this announcement will support membership selection of the National Space Council Users' Advisory Group (UAG). Its collection is authorized by the Federal Advisory Committee Act (FACA), Public Law 92-463, 5 U.S.C. app., as amended; 5 U.S.C. 3109; Title V of Public Law 100-685; Public Law 101-611, Section 121; Executive Order 13803 of June 30, 2017, as amended by Executive Order 13906 of February 13, 2020, Section 6; and 44 U.S.C. 3101. Providing this information is voluntary, but not providing it or not providing it as requested may result in information or an individual not being considered in the UAG membership selection process. NASA may share this information for authorized purposes consistent with the purpose for which it is collected. Elaboration and conditions of information disclosure may be found under “Routine Uses” of the full System of Record Notice for System 10SPRE, “Special Personnel Records” (15-118, 81 FR10, pp. 2244-2247) at https://www.gpo.gov/fdsys/pkg/FR-2016-01-16/pdf/2016-00689.pdf and in Appendix B (11-091, 76 FR 200, pp. 64112-64114) at https://www.gpo.gov/fdsys/pkg/FR-2011-10-17/pdf/2011-26731.pdf.

Patricia Rausch,
Advisory Committee Management Officer, National Aeronautics and Space Administration.

[FR Doc. 2021-20575 Filed 9-22-21; 8:45 am]

BILLING CODE 7510-13-P